DEPARTMENT OF THE TREASURY

Agency Information Collection Activities; Submission for OMB Review; Comment Request; Multiple Internal Revenue Service (IRS) Information Collection Requests

AGENCY: Departmental Offices, U.S. Department of the Treasury.

ACTION: Notice.

SUMMARY: The Department of the Treasury will submit the following information collection requests to the Office of Management and Budget (OMB) for review and clearance in accordance with the Paperwork Reduction Act of 1995, on or after the date of publication of this notice. The public is invited to submit comments on these requests.

DATES: Comments should be received on or before November 25, 2022 to be assured of consideration.

ADDRESSES: Written comments and recommendations for the proposed information collection should be sent within 30 days of publication of this notice to www.reginfo.gov/public/do/PRAMain. Find this particular information collection by selecting “Currently under 30-day Review—Open for Public Comments” or by using the search function. Copies of the submissions may be obtained from Melody Braswell by emailing PRA@treasury.gov, calling (202) 622-1035, or viewing the entire information collection request at www.reginfo.gov.

SUPPLEMENTARY INFORMATION:

Internal Revenue Service (IRS)

1. Title: Application of tentative refund.

OMB Number: 1545-0098.

Form Number: 1045.

Abstract: Form 1045 is used by individuals, estates, and trusts to apply for a quick refund of taxes due to carryback of a net operating loss, unused general business credit, or claim of right adjustment under Internal Revenue Code section 1341(b). The information obtained is used to determine the validity of the application.

Current Actions: Form 1045 has been revised to comply with updates in current laws and regulatory requirements.

Type of Review: Revision of a currently approved collection.

Affected Public: Individuals or households, business or other for-profit organizations, and farms.

Estimated Number of Respondents: 17,503.

Estimated Time per Respondent: 24 hours 29 min.

Estimated Total Annual Burden Hours: 428,649.

2. Title: Application for Approval of Prototype or Employer Sponsored Individual Retirement Account.

OMB Number: 1545-0390.

Form Number: 5306.

Abstract: This application is used by employers who want to establish an individual retirement account trust to be used by their employees. The application is also used by banks and insurance companies that want to establish approved prototype individual retirement accounts or annuities. The data collected is used to determine if the individual retirement account trust or annuity contract meets the requirements of Code section 408(a), 408(b), or 408(c) so that the IRS may issue an approval letter.

Current Actions: There is no change to the paperwork burden previously approved by OMB.

Type of Review: Extension of a currently approved collection.

Affected Public: Businesses and other for-profit organizations.

Estimated Number of Respondents: 600.

Estimated Time per Respondent: 13 hours, 44 minutes.

Estimated Total Annual Burden Hours: 8,244 hours.

3. Title: Gains and Losses From Section 1256 Contracts and Straddles.

OMB Number: 1545-0644.

Form Number: 6781.

Abstract: Form 6781 is used by taxpayers in computing their gains and losses on Internal Revenue Code section 1256 contracts under the marked-to-market rules and gains and losses under Code section 1092 from straddle positions. The data is used to verify that the tax reported accurately reflects any such gains and losses.

Current Actions: There is no change to the paperwork burden previously approved by OMB. This form is being submitted for renewal purposes only.

Type of Review: Extension of a currently approved collection.

Affected Public: Business or other for-profit organizations, and individuals.

Estimated Number of Respondents: 5,684.

Estimated Time Per Respondent: 13.95 hours.

Estimated Total Annual Burden Hours: 79,292 hours.

4. Title: Application for Renewal of Enrollment to Practice Before the Internal Revenue Service.

OMB Number: 1545-0946.

Form Number: 8554.

Abstract: The information obtained from Form 8554 relates to the approval of continuing professional education programs and the renewal of the enrollment status for those individuals admitted (enrolled) to practice before the Internal Revenue Service. The information will be used by the Director of Practice to determine the qualifications of individuals who apply for renewal of enrollment.

Current Actions: There are no changes to the form since last renewal of this collection.

Type of Review: Extension of a currently approved collection.

Affected Public: Individuals or households.

Estimated Number of Respondents: 62,000.

Estimated Number of Responses: 21,000.

Estimated Time per Response: 20 minutes.

Estimated Total Annual Burden Hours: 7,000.

Title: Application for Renewal of Enrollment to Practice Before the Internal Revenue Service as an Enrolled Retirement Plan Agent (ERPA).

OMB Number: 1545-0946.

Form: 8554-EP.

Abstract: This form is used to renew your Enrolled Retirement Plan Agent (ERPA) status. You must renew your enrollment status every 3 years as determined by the last digit of your Tax Identification Number (TIN).

Current Actions: There are no changes being made to the form at this time. However, there are changes to the burden estimates due to the most current filing data.

Type of Review: Extension of a currently approved collection.

Affected Public: Individuals or households.

Estimated Number of Respondents: 750.

Estimated Number of Responses: 250.

Estimated Time per Response: 20 minutes.

Estimated Total Annual Burden Hours: 83.

5. Title: Application for Enrollment to Practice Before the Internal Revenue Service.

OMB Number: 1545-0950.

Form Number: Form 23.

Abstract: Form 23 must be completed by those who desire to practice before the Internal Revenue Service. The information on the form will be used by the Director of Practice to determine the qualifications and eligibility of applicants for enrollment.

Current Actions: There are no changes to Form 23.

Type of Review: Extension of a currently approved collection.

Affected Public: Individuals or households.

Estimated Number of Respondents: 5,429.

Estimated Time per Respondent: 30 minutes.

Estimated Total Annual Burden Hours: 2,715 hrs.

6. Title: Generation-Skipping Transfer Tax Return For Terminations.

OMB Number: 1545-1145.

Form Number: 706-GS(T).

Abstract: Form 706-GS(T) is used by trustees to compute and report the tax due on generation-skipping transfers that result from the termination of interests in a trust. The IRS uses the information to verify that the tax has been properly computed.

Current Actions: There are no changes being made to the form at this time.

Type of Review: Extension of a currently approved collection.

Affected Public: Individuals or households.

Estimated Number of Respondents: 500.

Estimated Number of Responses: 1 hour, 22 minutes.

Estimated Total Annual Burden Hours: 684 hours.

7. Title: Real Estate Mortgage Investment Conduits.

OMB Number: 1545-1276.

Regulation Project: TD 8458.

Abstract: Internal Revenue Code (IRC) section 860G provides definitions and special rules pertaining to real estate mortgage investment conduits (REMIC). IRC section 860E outlines the treatment of income in excess of daily accruals on residual interests and imposes an excise tax on the transfer of a residual interest in a REMIC to a disqualified organization. Treasury Regulations section 1.860E-2(a)(5) requires the REMIC to furnish, on request of the party responsible for the tax and to the Internal Revenue Service (IRS), information sufficient to compute the present value of the anticipated excess inclusions. Treasury Regulations sections 1.860E-2(a)(7) and 1.860E-2(b)(2) provide that the tax will not be imposed on the party otherwise liable for the tax if the transferee or record holder with interest in a pass-thru entity furnishes an affidavit stating that they are not a disqualified organization.

Current Actions: There is no change to the existing collection.

Type of Review: Extension of a currently approved collection.

Affected Public: Business or other for-profit organizations.

Estimated Number of Responses: 1,600.

Estimated Time per Respondent: 20 minutes.

Estimated Total Annual Burden Hours: 525.

8. Title: U.S. Income Tax Return for Qualified Funeral Trusts.

OMB Number: 1545-1593.

Form Number: 1041-QFT.

Abstract: Internal Revenue Code section 685 allows the trustee of a qualified funeral trust to elect to report and pay the tax for the trust. Form 1041-QFT is used for this purpose. The IRS uses the information on the form to determine that the trustee filed the proper return and paid the correct tax.

Current Actions: There are no changes being made to the form at this time.

Type of Review: Extension of a currently approved collection.

Affected Public: Businesses or other for-profit organizations.

Estimated Number of Responses: 15,000.

Estimated Time per Response: 18.5 hours.

Estimated Total Annual Burden Hours: 277,500.

9. Title: Aid of Construction Under Section 118(c).

OMB Number: 1545-1639.

Regulation Project Number: TD 8936.

Abstract: This regulation provides guidance with respect to section 118(c), which provides that a contribution in aid of construction received by a regulated public water or sewage utility is treated as a contribution to the capital of the utility and excluded from gross income.

Current Actions: There is no change to the burden previously approved by OMB.

Type of Review: Extension of a currently approved collection.

Affected Public: Businesses or other for-profit organizations.

Estimated Number of Respondents: 300.

Estimated Time per Respondent: 1 hour.

Estimated Total Annual Burden Hours: 300 hrs.

Title: Employee Plans Compliance Resolution System (EPCRS).

10. OMB Number: 1545-1673.

Regulation Project Number: RP 2021-30.

Form Number: Forms 8950, 8951, 14568, 14568-A thru I.

Abstract: The information requested in Revenue Procedure 2021-30 is required to enable the Internal Revenue Service to make determinations on the issuance of various types of closing agreements and compliance statements. The issuance of the agreements and statements allow individual plans to maintain their tax-qualified status. As a result, the favorable tax treatment of the benefits of the eligible employees is retained. Applicants under the Voluntary Correction Program (VCP) must file Forms 8950 and 8951, and the appropriate scheduled(s) to the applicable part of the model compliance statement, in order to request written approval from the IRS for a correction of a qualified plan that has failed to comply with the requirements of the Internal Revenue Code.

Current Actions: There is no change to the paperwork burden previously approved by OMB.

Type of Review: Extension of a currently approved collection.

Affected Public: Individuals and business or other for-profit organizations, not-for profit institutions, and state, local or tribal governments.

Estimated Number of Respondents: 15,375.

Estimated Time per Respondent: 12 hours, 25 minutes.

Estimated Total Annual Burden Hours: 190,941 hours.

11. Title: New Markets Credit.

OMB Number: 1545-1804.

Form Number: 8874.

Abstract: Investors to claim a credit for equity investments made in Qualified Community Development Entities use Form 8874.

Current Actions: There is no change in the paperwork burden previously approved by OMB.

Type of Review: Extension of a currently approved collection.

Affected Public: Individuals or households, and business or other for-profit organizations.

Estimated Number of Respondents: 101.

Estimated Time per Respondent: 4 hours, 52 minutes.

Estimated Total Annual Burden Hours: 492 hours.

12. Title: Health Coverage Tax Credit (HCTC) Monthly Registration and Update.

OMB Number: 1545-1842.

Form Number: 13441-A.

Abstract: The health coverage tax credit monthly registration and update Form will be directly mailed to all individuals who are potentially eligible for the HCTC. Potentially eligible individuals will use this form to determine if they are eligible for the Health Coverage Tax Credit and to register for the HCTC program. Participation in this program is voluntary. This form will be submitted by the individual to the HCTC program office in a postage-paid, return envelope. We will accept faxed forms, if necessary. Additionally, recipients may call the HCTC call center for help in completing this form.

Current Actions: The HCTC expired in 2021 and is unavailable to be claimed in 2022. IRS is keeping the OMB approval active on the collection, in case, Congress reauthorizes the credit for future tax years.

Type of Review: Extension of a currently approved collection.

Affected Public: Individuals or households.

Estimated Number of Respondents: 5,146.

Estimated Time per Response: 30 minutes.

Estimated Total Annual Burden Hours: 2,573.

13. Title: TEFAC Compliance Check Report.

OMB Number: 1545-2026.

Form Number: 13797.

Abstract: This form will be provided to tribes who elect to perform a self-compliance check on any or all their entities. This is a VOLUNTARY program, and the entity is not penalized for non-completion of forms or withdrawal from the program. Upon completion, the information will be used by the Tribe and ITG to develop training needs, compliance strategies, and corrective actions.

Current Actions: There is no change in the paperwork burden previously approved by OMB. This form is being submitted for renewal purposes only.

Type of Review: Extension of a currently approved collection.

Affected Public: Businesses and other for-profit organizations and State, Local, or Tribal Government.

Estimated Number of Respondents: 20.

Estimated Time per Respondent: 22 hours 20 min.

Estimated Total Annual Burden Hours: 447.

Authority: 44 U.S.C. 3501 et seq.

Melody Braswell,
Treasury PRA Clearance Officer.

[FR Doc. 2022-23309 Filed 10-25-22; 8:45 am]

BILLING CODE 4830-01-P